DEPARTMENT OF COMMERCE

International Trade Administration,

[A-351-832, A-560-815, A-201-830, A-841-805, A-274-804, A-823-812]

Carbon and Certain Alloy Steel Wire Rod From Brazil, Indonesia, Mexico, Moldova, Trinidad and Tobago, and Ukraine: Final Results of the Expedited Second Sunset Reviews of the Antidumping Duty Orders

AGENCY: Enforcement and Compliance, formerly Import Administration, International Trade Administration, Department of Commerce.

SUMMARY: On June 3, 2013, the Department of Commerce (“the Department”) published the initiation of the second sunset reviews of the antidumping duty orders on carbon and certain alloy steel wire rod (“wire rod”) from Brazil, Indonesia, Mexico, Moldova, Trinidad and Tobago, and Ukraine pursuant to section 751(c) of the Tariff Act of 1930, as amended (“the Act”). As a result of its analysis, the Department finds that revocation of these AD orders would be likely to lead to continuation or recurrence of dumping at the margins indicated in the “Final Results of Sunset Reviews” section of this notice.

DATES: Effective Date: October 24, 2013.

FOR FURTHER INFORMATION CONTACT: James Terpstra, AD/CVD Operations, Office III, Enforcement and Compliance, International Trade Administration, U.S. Department of Commerce, 14th Street & Constitution Avenue NW., Washington, DC 20230; telephone: (202) 482-3965.

SUPPLEMENTARY INFORMATION:

Background

On June 3, 2013, the Department published the notice of initiation of the sunset reviews of the antidumping duty orders on wire rod from Brazil, Indonesia, Mexico, Moldova, Trinidad and Tobago, and Ukraine, pursuant to section 751(c) of the Act. See Initiation of Five-Year (“Sunset”) Reviews, 78 FR 33063 (June 3, 2013) (“Notice of Initiation”). The Department received a notice of intent to participate from the following domestic parties: Schnitzer Steel Industries, Inc., DBA Cascade Steel Rolling Mills, Inc.; Arcelor Mittal USA LLC; ¹ Evraz Rocky Mountain Steel Mills; Gerdau Ameristeel U.S. Inc.; Keystone Consolidated Industries, Inc.; and Nucor Corporation within the deadline specified in 19 CFR 351.218(d)(1)(i). Each of the companies claimed interested party status under section 771(9)(C) of the Act as a producer in the United States of a domestic like product.

¹ Arcelor Mittal USA LLC is not participating in the sunset review of the antidumping duty order on wire rod from Trinidad and Tobago.

On July 2, 2013, the Department received adequate substantive responses from the domestic interested parties identified above within the 30-day deadline specified in 19 CFR 351.218(d)(3)(i).² The Department received no responses from respondent interested parties with respect to any of the orders covered by these sunset reviews. As a result, pursuant to section 751(c)(3)(B) of the Act and 19 CFR 351.218(e)(1)(ii)(C)(2), the Department has conducted expedited (120-day) sunset reviews of the antidumping duty orders on wire rod from Brazil, Indonesia, Mexico, Moldova, Trinidad and Tobago, and Ukraine.

² Gerdau Ameristeel U.S. Inc. reported that it is a subsidiary of Gerdau Ameristeel Corp., which is a wholly-owned subsidiary of Gerdau S.A. of Brazil. Evraz Rocky Mountain Steel reported that it is doing business as CF&I Steel LP, which is majority-owned by Evraz Inc. NA and that Evraz Inc. NA is wholly-owned by the Evraz Group, S.A. of Russia. ArcelorMittal USA reported that it is a wholly-owned subsidiary of ArcelorMittal S.A., a company headquartered in Luxembourg. Pursuant to section 771(4)(B) of the Act, a domestic interested party may be excluded from participating as part of the domestic industry if it is related to an exporter of subject merchandise. In these sunset reviews, even if we excluded these three parties from participating as part of the domestic industry, there would still be sufficient participation by other domestic interested parties to merit sunset reviews of the orders.

Scope of the Orders

The merchandise subject to these orders is certain hot-rolled products of carbon steel and alloy steel, in coils, of approximately round cross section, 5.00 mm or more, but less than 19.00 mm, in solid cross-sectional diameter. The full scope language of each of the antidumping duty orders is listed in the Issues and Decision Memorandum from Christian Marsh, Deputy Assistant Secretary for Antidumping and Countervailing Duty Operations, to Paul Piquado, Assistant Secretary for Enforcement and Compliance, dated concurrently with this notice (“Issues and Decision Memorandum”), which is hereby adopted by this notice.

The merchandise is currently classifiable under the following subheadings of the Harmonized Tariff Schedule of the United States (“HTSUS”): 7213.91.3011, 7213.91.3015, 7213.91.3020, 7213.91.3093, 7213.91.4500, 7213.91.6000, 7213.99.0030, 7213.99.0060, 7213.99.0090, 7227.20.0030, 7227.20.0080, 7227.90.6010, 7227.90.6020, and 7227.90.6085 of the HTSUS. Although the HTSUS subheadings are provided for convenience and customs purposes, the written description of the scope of these orders is dispositive.

Analysis of Comments Received

All issues raised in these reviews are addressed in the Issues and Decision Memorandum, including the likelihood of a continuation or recurrence of dumping in the event of revocation and the magnitude of the dumping margins likely to prevail upon revocation. Parties can find a complete discussion of these issues and the corresponding recommendations in this public document, which is on file electronically via IA ACCESS. IA ACCESS is available to registered users at http://iaaccess.trade.gov and in the Central Records Unit (“CRU”) in Room 7046 of the main Department of Commerce building. In addition, a complete version of the Issues and Decision Memorandum can be accessed directly on the internet at http://enforcement.ita.doc.gov/frn/index.html. The signed Issues and Decision Memorandum and the electronic versions of the Issues and Decision Memorandum are identical in content.

Final Results of Sunset Reviews

We determine that revocation of the antidumping duty orders on wire rod from Brazil, Indonesia, Mexico, Moldova, Trinidad and Tobago, and Ukraine would be likely to lead to continuation or recurrence of dumping at the following weighted-average percentage margins:

Manufacturers/Exporters/ Producers | Weighted- Average Margin (percent)
Brazil:
Belgo Mineira | 94.73
All-Others Rate | 74.45
Indonesia:
P.T. Ispat Indo | 4.05
All-Others Rate | 4.05
Mexico:
SICARTSA | 20.11
All-Others Rate | 20.11
Moldova:
Moldova-wide Rate | 369.10
Trinidad and Tobago:
Caribbean Ispat Ltd.³ | 11.40
All-Others Rate | 11.40
Ukraine:
Krivorozhstal | 116.37
All-Others Rate | 116.37

Notification to Interested Parties

This notice also serves as the only reminder to parties subject to administrative protective orders (“APO”) of their responsibility concerning the return or destruction of proprietary information disclosed under APO in accordance with 19 CFR 351.305. Timely notification of the return or destruction of APO materials or conversion to judicial protective orders is hereby requested. Failure to comply with the regulations and terms of an APO is a violation which is subject to sanction.

³

Arcelor Mittal Point Lisas is the successor-in-interest to Caribbean Ispat Ltd.

We are issuing and publishing the final results of these sunset reviews in accordance with sections 751(c), 752(c), and 777(i)(1) of the Act and 19 CFR 351.221(c)(5)(ii).

Dated: October 17, 2013.
Paul Piquado,
Assistant Secretary for Enforcement and Compliance.

Appendix I

List of Topics Discussed in the Issues and Decision Memorandum

1. Likelihood of continuation or recurrence of dumping

2. Magnitude of the margins likely to prevail

[FR Doc. 2013-25042 Filed 10-23-13; 8:45 am]

BILLING CODE 3510-DS-P